DEPARTMENT OF THE INTERIOR

Fish and Wildlife Service

[FWS-R6-R-2008-N0344; 60138-1265-6CCP-S3]

Final Comprehensive Conservation Plan for Sullys Hill National Game Preserve, Fort Totten, ND

AGENCY: Fish and Wildlife Service, Interior.

ACTION: Notice of availability.

SUMMARY: We, the U.S. Fish and Wildlife Service (Service), announce that our Final Comprehensive Conservation Plan (Plan) and Finding of No Significant Impact (FONSI) for the Sullys Hill National Game Preserve is available. This Final CCP describes how the Service intends to manage this refuge for the next 15 years.

ADDRESSES: A copy of the Plan may be obtained by writing to U.S. Fish and Wildlife Service, Division of Refuge Planning, P.O. Box 25486, Denver Federal Center, Denver, Colorado 80225; or by download from http://mountain-prairie.fws.gov/planning.

FOR FURTHER INFORMATION CONTACT: Laura King, 406-644-2211, (phone); 406-644-2661 (fax); or laura_king@fws.gov (e-mail).

SUPPLEMENTARY INFORMATION: Sullys Hill National Game Preserve, established in 1904, is a 1,675-acre National Wildlife Refuge sitting on the south shores of Devils Lake, about 10 miles south of the city of Devils Lake, North Dakota. This Refuge supports a unique community of habitats such as an oak, ash, basswood and aspen woodland, mixed grassed prairie, and some natural wetlands. These diverse habitats provide “edge” habitat for over 250 species of migratory birds, plains bison, Rocky Mountain elk, white-tailed deer, turkeys, and prairie dogs.

The Refuge is one of only 19 designated natural areas in North Dakota, of which only four are National Wildlife Refuges. It is also one of only four Refuges nationally established for bison conservation.

Sullys Hill National Game Preserve has over 60,000 visitors annually. The Refuge is becoming a progressive regional conservation learning center, promoting the conservation role of the National Wildlife Refuge System while educating visitors about the functions and benefits of prairie wetlands and grasslands. Per its legislative purpose, there is no hunting permitted on this Refuge.

The draft Plan and Environmental Assessment (EA) was made available to the public for review and comment following the announcement in the Federal Register on June 26, 2008 (73 FR 36350-36352). The draft Plan and EA identified and evaluated three alternatives for managing the Refuges for the next 15 years. Alternative C was selected as the preferred alternative and will serve as the Final Plan.

The final CCP identifies goals, objectives, and strategies that describe the future management of Sullys Hill National Game Preserve. This Plan gives priority to enhancing and restoring native prairie and promoting forest regeneration. Ungulate populations will be maintained at lower levels (≤20 bison, ≤18 elk, and ≤18 white-tailed deer) to control the overgrazing and overbrowsing that has impacted Refuge habitats. Management tools, including exclusion fences and other appropriate methods such as chemical, biological, and mechanical techniques (including prescribed fire) will be used to restore and enhance habitat for the benefit of forest interior breeding and grassland nesting birds. Selected hay land acres would be restored to native prairie. Fuels treatment (including prescribed fire or other mechanical means) will be used to reduce hazardous fuels, minimizing the threat to life and property. Invasive species will be treated and areas restored. The ungulate herd health program will take a more active disease surveillance and treatment approach, including timely introduction of ungulates to maintain genetic health, particularly for the Refuges plains bison.

There would be an increase in delivery of both on-site and off-site programming of youth environmental education programs. In cooperation with local teachers, a formal wetland and grassland conservation curriculum will be designed for targeted grade levels and meet local and State standards. Emphasis will be placed on developing education partnerships with Spirit Lake Nation schools and agencies. The Refuges limited fishery will be used for educational programs only. Visitor, facility, and wildlife safety will be improved through regular routine patrols during peak and off-peak public use. A comprehensive cultural resource survey of the Refuge will be completed in partnership with other agencies and organizations. Four full-time staff will be recruited to expand, develop, and conduct biological, visitor services, law enforcement, and maintenance programs.

The Service is furnishing this Notice to advise other agencies and the public of the availability of the Final Plan, to provide information on the desired conditions for the Refuges, and to detail how the Service will implement management strategies. Based on the review and evaluation of the information contained in the EA, the Regional Director has determined that implementation of the Final Plan does not constitute a major Federal action that would significantly affect the quality of the human environment within the meaning of Section 102(2)(c) of the National Environmental Policy Act. Therefore, an Environmental Impact Statement will not be prepared.

Dated: December 23, 2008.
Noreen E. Walsh,
Deputy Regional Director.

Editorial Note: This document was received in the Office of the Federal Register on April 8, 2009.

[FR Doc. E9-8328 Filed 4-10-09; 8:45 am]

BILLING CODE 4310-55-P